FEDERAL COMMUNICATIONS COMMISSION

47 CFR Part 51

[CC Docket No. 01-338; CC Docket No. 96-98; CC Docket No. 98-147; FCC 03-36]

Review of the Section 251 Unbundling Obligations of Incumbent Local Exchange Carriers

AGENCY: Federal Communications Commission.

ACTION: Proposed rule; correction.

SUMMARY: This document corrects an error in the DATES section of a Federal Register document regarding the Commission's inquiry regarding proposed modifications to the Commission's existing rules implementing section 252(i) which requires local exchange carriers (LECs) to make available to other telecommunications carriers interconnection agreements approved under section 252.

DATES: Comments are due on October 2, 2003 and Reply Comments are due on November 3, 2003.

FOR FURTHER INFORMATION CONTACT: Jeremy Miller, Attorney-Advisor, Competition Policy Division, Wireline Competition Bureau, (202) 418-1580.

In rule FR Doc. 03-22194 published September 2, 2003 (68 FR 52307) make the following correction.

1. On page 52307, in the first column, in the dates section remove “Reply Comments are due October 23, 2003” and add “Reply Comments are due November 3, 2003” in its place.

Federal Communications Commission.
Marlene H. Dortch,
Secretary.

[FR Doc. 03-22970 Filed 9-9-03; 8:45 am]

BILLING CODE 6712-01-P